DEPARTMENT OF HEALTH AND HUMAN SERVICES

Food and Drug Administration

[Docket No. FDA-2012-P-1189]

Canned Tuna Deviating From the Standard of Identity; Amendment of Temporary Marketing Permits

AGENCY: Food and Drug Administration, HHS.

ACTION: Notice.

SUMMARY: The Food and Drug Administration (FDA or we) is amending the temporary permits issued to Bumble Bee Foods, LLC, and StarKist Seafood Co. to market test canned tuna. The Bumble Bee Foods, LLC's temporary permit is amended to add one additional manufacturing location. The StarKist Seafood Co.'s temporary permit is amended to increase the amount of test product and to add one additional manufacturing location. These amendments will allow the applicants to continue to test market the test product and collect data on consumer acceptance.

FOR FURTHER INFORMATION CONTACT: Marjan Morravej, Center for Food Safety and Applied Nutrition (HFS-820), Food and Drug Administration, 5001 Campus Dr., College Park, MD 20740, 240-402-2371.

SUPPLEMENTARY INFORMATION: In the Federal Register of June 20, 2014 (79 FR 35362), we issued a notice announcing that we had issued temporary permits to Bumble Bee Foods, LLC, 9655 Granite Ridge Dr., San Diego, CA 92123; Chicken of the Sea International, 9330 Scranton Rd., Suite 500, San Diego, CA 92121; and StarKist Seafood Co., 225 North Shore Dr., Pittsburgh, PA 15212, to market test products identified as canned tuna products. We issued the permits to facilitate market testing of products that deviate from the requirements of the standard of identity for canned tuna in 21 CFR 161.190, which were issued under section 401 of the Federal Food, Drug, and Cosmetic Act (21 U.S.C. 341).

In the Federal Register of March 7, 2016 (81 FR 11813), we issued a notice announcing that we were extending the temporary market permits issued to Bumble Bee Foods, LLC; Chicken of the Sea International; and StarKist Seafood Co. The extension allows the applicants to continue to measure consumer acceptance of the products and assess the commercial feasibility of the products, in support of a petition to amend the standard of identity for canned tuna. The new expiration date of the permits will be either the effective date of a final rule amending the standard of identity for canned tuna that may result from the petition or 30 days after denial of the petition.

In the Federal Register of March 5, 2021 (86 FR 12954), we issued a notice announcing that we were amending the temporary permit issued to StarKist Seafood Co. to allow the test product to be manufactured at three additional plants: Tropical Canning (Thailand) Public Co., Ltd., 1/1 M.2 T. Thungyai, Hatyai, Songkhla 90110, Thailand; I.S.A. Value Co., Ltd., 44/4 Moo1, Petchkasem Road, Yaicha, Sampran, Nakornpathom 73110, Thailand; and Tri-Marine (Solomon Islands), Soltuna Ltd., 1 Tuna Dr., Noro, Western Province, Solomon Islands, and to increase the amount of test product to 213,500,000 pounds (96,841,971 kilograms).

Under our regulations at 21 CFR 130.17(f), we are amending the temporary permits issued to Bumble Bee Foods, LLC, and StarKist Seafood Co. We are amending the temporary permit issued to Bumble Bee Foods, LLC, to allow the test product to be manufactured at one additional plant: Marindustrias, S.A. de C.V. Calle Central Oriente No. 5, Parque Industrial Fondeport, Manzanillo Colima, CL 28219 Mexico. We are amending the temporary permit issued to StarKist Seafood Co. to increase the amount of test product to be market tested to 217,900,000 pounds (98,837,777 kilograms) in retail cans of various sizes and to allow the test product to be manufactured at one additional plant: Société De Conserverie en Afrique (SCA S.A.), Nouveau Quai de Peche-Mole 10-BP 782, Dakar, Senegal. All other conditions and terms of the permits remain the same.

Dated: December 21, 2021.
Lauren K. Roth,
Associate Commissioner for Policy.

[FR Doc. 2021-28164 Filed 12-27-21; 8:45 am]

BILLING CODE 4164-01-P